DEPARTMENT OF ENERGY

Federal Energy Regulatory Commission

[Docket No. CP95-35-000]

EcoEléctrica, L.P.; Supplemental Notice of Technical Conference

As announced in the Notice of Technical Conference issued in this proceeding on December 14, 2022, the Federal Energy Regulatory Commission (Commission) will convene a Commission staff-led technical conference to discuss issues raised related to the structural analysis of EcoEléctrica, L.P.'s (EcoEléctrica) liquefied natural gas (LNG) storage tank at its LNG terminal in Peñuelas, Puerto Rico. The technical conference will be held on January 18-19, 2023, from approximately 9:00 a.m. to 4:00 p.m. Eastern time. The conference will be held virtually and in person (Federal Energy Regulatory Commission, 888 First Street NE, Washington, DC). The agenda for this event is attached. The technical conference will not be open for the public to attend. Only those specified in the December 14, 2022 Notice may attend.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference including how to participate, virtual and in person meeting details, etc., please contact Karla Bathrick at karla.bathrick@ferc.gov or at (202) 502-6328.

Dated: January 13, 2023.
Kimberly D. Bose,
Secretary.

[FR Doc. 2023-01061 Filed 1-19-23; 8:45 am]

BILLING CODE 6717-01-P